DEPARTMENT OF HEALTH AND HUMAN SERVICES

Centers for Disease Control and Prevention

Meeting of the Community Preventive Services Task Force (CPSTF)

AGENCY: Centers for Disease Control and Prevention (CDC), Department of Health and Human Services (HHS).

ACTION: Notice of meeting.

SUMMARY: The Centers for Disease Control and Prevention (CDC) announces the next meeting of the Community Preventive Services Task Force (CPSTF). The Task Force—an independent, nonfederal body of nationally known leaders in public health practice, policy, and research, who are appointed by the CDC Director—was convened in 1996 by the Department of Health and Human Services (HHS) to assess the effectiveness of community, environmental, population, and healthcare system interventions in public health and health promotion. During this meeting, the Task Force will consider the findings of systematic reviews and issue recommendations and findings to help inform decision making about policy, practice, and research in a wide range of U.S. settings. The Task Force's recommendations, along with the systematic reviews of the scientific evidence on which they are based, are compiled in the Guide to Community Preventive Services (Community Guide).

DATES: The meeting will be held on Wednesday, June 20, 2012 from 8:30 a.m. to 5:30 p.m., EST and Thursday, June 21, 2012 from 8:30 a.m. to 1:00 p.m. EST.

Logistics: The Task Force Meeting will be held at the Emory Conference Center's at 1615 Clifton Road Atlanta, GA 30329. Information regarding logistics will be available on the Community Guide Web site (www.thecommunityguide.org), Wednesday, May 23, 2012.

FOR FURTHER INFORMATION CONTACT: Allyson Brown, The Community Guide Branch, Epidemiology and Analysis Program Office, Office of Surveillance, Epidemiology, and Laboratory Services, Centers for Disease Control and Prevention, 1600 Clifton Road, MS-E-69, Atlanta, Georgia 30333, phone: (404) 498-0937), email: CPSTF@cdc.gov.

Purpose: The purpose of the meeting is for the Task Force to consider the findings of systematic reviews and issue recommendations and findings to help inform decision making about policy, practice, and research in a wide range of U.S. settings.

Matters To Be Discussed: Updates on Cancer, Motor vehicle-related injuries, Tobacco, Health Equity, and Alcohol.

Meeting Accessibility: This meeting is open to the public, limited only by space availability.

Dated: May 3, 2012.
Tanja Popovic,
Deputy Associate Director for Science, Centers for Disease Control and Prevention.

[FR Doc. 2012-11938 Filed 5-16-12; 8:45 am]

BILLING CODE 4163-18-P